DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its sixty-fourth meeting.

Name: National Advisory Committee on Rural Health and Human Services.

Dates and Times: February 17, 2010, 1 p.m.-5 p.m.

February 18, 2010, 9 a.m.-5 p.m.

February 19, 2010, 9 a.m.-10:30 a.m.

Place: The Sofitel Lafayette Square, 806 15th Street, NW., Washington, DC, 20005, Phone: 202-730-8800.

Status: The meeting will be open to the public.

Purpose: The National Advisory Committee on Rural Health and Human Services provides advice and recommendations to the Secretary with respect to the delivery, research, development and administration of health and human services in rural areas.

Agenda: Wednesday afternoon, February 17, at 1 p.m., the meeting will be called to order by the Chairperson of the Committee, the Honorable David Beasley and the Vice Chairperson, the Honorable Larry Otis. The Chair will open with a review of the Committee's 2010 Report to the Secretary and a vote on the approval of that report. The meeting will then focus on the Committee's work for the 2011 report, which will focus on the implications of health system change in rural communities. The meeting will include an address by HRSA Administrator

Dr. Mary Wakefield as well as presentations by experts in the fields of hospital and health care delivery as well as workforce. Committee discussion on the issues and an overview of rest of the meeting will follow. The Wednesday meeting will close at 5 p.m.

Thursday morning, February 18, at 9 a.m., the Committee will open with presentations by experts in the area of human service delivery and will be followed by another presentation by a speaker from the Rural Policy Research Institute. This will be followed by Committee discussion and overview from staff to the Committee. Following these presentations, Subcommittees will be selected and meet for small group discussions. There will be a review of the Subcommittee meetings and action items will be developed for the Committee members and staff. The formal meeting for Thursday will close at 5 p.m.

The final session will be convened Friday morning, February 19, at 9 a.m. The Committee will hear additional presentations on emerging rural policy issues from both internal and external experts. This will be followed by Committee discussion on the Report format and an overview of the Work Plan. The Committee will draft the letter to the Secretary and discuss the June meeting. The meeting will be adjourned at 10:30 a.m.

For Further Information Contact: Anyone requiring information regarding the Committee should contact Thomas F. Morris, MPA, Acting Executive Secretary, National Advisory Committee on Rural Health and Human Services, Health Resources and Services Administration, Parklawn Building, Room 9A-42, 5600 Fishers Lane, Rockville, MD 20857, Telephone (301) 443-0835, Fax (301) 443-2803.

Persons interested in attending any portion of the meeting should contact Michele Pray Gibson, Office of Rural Health Policy (ORHP), Telephone (301) 443-0835. The Committee meeting agenda will be posted on ORHP's Web site http://www.ruralhealth.hrsa.gov.

Dated: January 14, 2010.
Sahira Rafiullah,
Deputy Director, Division of Policy Review and Coordination.

[FR Doc. 2010-1178 Filed 1-21-10; 8:45 am]

BILLING CODE 4165-15-P